DEPARTMENT OF COMMERCE

Submission for OMB Review; Comment Request

The Department of Commerce has submitted to the Office of Management and Budget (OMB) for clearance the following proposal for collection of information under the provisions of the Paperwork Reduction Act (44 U.S.C. Chapter 3501).

Agency: Economic Development Administration (EDA).

Title: Data Collection for Compliance with Government Performance and Results Act of 1993.

Agency Form Numbers: ED-915, Public Works, Economic Adjustment Infrastructure, and Revolving Loan Fund Reporting Form; ED-916, Economic Development District and Indian Tribe Reporting Form; ED-917, University Center Reporting Form; and ED-918, Trade Adjustment Assistance Reporting Form.

OMB Approval Number: 0610-0098.

Type of Review: Extension of a Currently Approved Collection of Information.

Burden Hours: 19,768 burden hours.

Number of Respondents: Approximately 2,737 respondents.

Average Hours Per Response: (1) 8 burden hours for the Public Works and Economic Adjustment Infrastructure and Revolving Loan Funds Reporting Form; (2) 6 hours for the Economic Development District and Indian Tribe Reporting Form; (3) 7 hours for the University Center Form; and (4) 6 hours for the Trade Adjustment Assistance Form.

Needs and Uses: EDA provides investments that will help our partners (states, regions and local communities) across the nation create wealth and minimize poverty by promoting a favorable business environment to attract private capital investment and higher-skill, higher-wage jobs through world class capacity building, infrastructure, business assistance, research grants and strategic initiatives.

EDA must collect data and report on the results of the following principal programs. The Public Works program promotes long-range economic development in distressed areas by providing investments for vital public infrastructure and development facilities. The Economic Adjustment program offers flexible investments, including revolving loan funds, for communities facing sudden or severe economic distress. EDA's Planning program supports local planning and long-term partnerships with State, regional organizations, Economic Development Districts and Indian Tribes that assist distressed communities with strategic planning and investment activities. The University Center program is a partnership that draws on the expertise of colleges and universities to strengthen distressed communities as they strive to become economically self-sufficient. The Trade Adjustment Assistance program, authorized under the Trade Act of 1974 (19 U.S.C. 2341 et seq.), assists U.S. firms and industries injured as the result of trade agreements by offering low-cost, effective professional assistance to certified firms in developing and implementing recovery strategies.

The Government Performance and Results Act of 1993 (GPRA) requires Federal agencies to develop performance measures and report to Congress and their stakeholders the results of the agency's performance. To comply with GPRA, EDA must collect specific data from grant recipients to report its performance in meeting stated goals and objectives. The congressionally mandated reports include (i) the Annual Performance Plan, (ii) Annual Program Performance Report, (iii) annual Accountability Report, and (iv) annual Budgets. EDA performance measures are designed to evaluate overall program performance and not the performance of individual grantees. The information collected at project completion and various stages thereafter will be used to enhance the management and performance of EDA programs.

Affected Public: State, local or Indian governments and not-for profit organizations.

Frequency: Annually.

Respondents Obligation: Mandatory.

OMB Desk Officer: David Rostker, (202) 395-3897. Copies of the above collection of information proposal can be obtained by calling or writing to Diana Hynek, Departmental Paperwork Clearance Officer, (202) 482-0266, Department of Commerce, Room 6625, 14th and Constitution Avenue, NW., Washington, DC 20230 (or via e-mail at dHynek@doc.gov).

Written comments and recommendations for the proposed collection should be sent within thirty (30) days of publication of this notice to David Rostker, OMB Desk Officer, facsimile (202) 395-7285, or via e-mail at David_Rostker@omb.eop.gov.

Dated: April 29, 2005.
Madeleine Clayton,
Management Analyst, Office of the Chief Information Officer.

[FR Doc. 05-8853 Filed 5-3-05; 8:45 am]

BILLING CODE 3510-34-P